DEPARTMENT OF HEALTH AND HUMAN SERVICES

National Institutes of Health

Statement of Organization, Functions, and Delegations of Authority; Correction

Correction

In the Federal Register of January 6, 2012 (77 FR 797), the Department of Health and Human Services published a notice titled National Institutes of Health Statement of Organization, Functions, and Delegations of Authority. On page 797, in the first column, first paragraph, correct the National Center for Advancing Translational Science (NCATS) to read: National Center for Advancing Translational Sciences (NCATS).

Dated: January 9, 2012.
Jerry Moore,
NIH Federal Register Liaison Officer, National Institutes of Health.

[FR Doc. 2012-470 Filed 1-11-12; 8:45 am]

BILLING CODE 4140-01-P